ENVIRONMENTAL PROTECTION AGENCY

[FRL-8265-1; Docket ID No. EPA-HQ-ORD-2006-0975]

A Review of the Impact of Climate Variability and Change on Aeroallergens and Their Associated Effects

AGENCY: Environmental Protection Agency (EPA).

ACTION: Notice of Public Comment Period.

SUMMARY: EPA is announcing a 30-day public comment period for the draft document titled, “A Review of the Impact of Climate Variability and Change on Aeroallergens and Their Associated Effects.” The draft document was prepared by the National Center for Environmental Assessment within EPA's Office of Research and Development. The draft report surveys the current state of knowledge of the potential impacts of climate change and climate variability on aeroallergens in the United States—including pollens, molds, and indoor allergens—and their associated allergenic illnesses.

EPA is releasing this draft document solely for the purpose of pre-dissemination peer review under applicable information quality guidelines. This document has not been formally disseminated by EPA. It does not represent and should not be construed to represent any Agency policy or determination. EPA will consider any public comments submitted in accordance with this notice when revising the document.

DATES: The 30-day public comment period begins December 29, 2006, and ends January 29, 2007. Technical comments should be in writing and must be received by EPA by January 29, 2007.

ADDRESSES: The draft, “A Review of the Impact of Climate Variability and Change on Aeroallergens and Their Associated Effects,” is available primarily via the Internet on the National Center for Environmental Assessment's home page under the Recent Additions and the Data and Publications menus at—A limited number of paper copies are available from the Technical Information Staff, NCEA-W; telephone: 202-564-3261; facsimile: 202-565-0050. If you are requesting a paper copy, please provide your name, your mailing address, and the draft document title, “A Review of the Impact of Climate Variability and Change on Aeroallergens and Their Associated Effects.”

Comments may be submitted electronically via www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Janet L. Gamble, NCEA; telephone: 202-564-3387; facsimile: 202-564-2018; or e-mail: gamble.janet@epa.gov.

SUPPLEMENTARY INFORMATION:

I. Information About the Project/Document

This draft report presents a survey of the current state of knowledge of the potential impacts of climate change and variability on aeroallergens—pollens, mold, and indoor allergens—in the United States and the allergenic illnesses associated with them. Allergies are prevalent in the U.S. and impose substantial economic and quality of life burdens. While limited data suggest that aeroallergen levels have remained relatively stable, the prevalence of allergenic illnesses in the U.S. has increased over the past 30 years, a trend that appears to be mirrored in other countries. Overall, experimental and observational data indicate that pollen production is likely to increase in many parts of the U.S. Phenologic advance is likely to occur for numerous species of plants, especially trees, and increases in allergen content, and thus, potency, of some aeroallergens are possible.

II. How to Submit Technical Comments to the Docket at www.regulations.gov

Submit your comments, identified by Docket ID No. EPA-HQ-ORD 2006-0975 by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, EPA West Building, Room 3334, 1301 Constitution Ave., NW., Washington, DC. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information.

If you provide comments by mail or hand delivery, please submit one unbound original, with pages numbered consecutively, and three copies of the comments. For attachments, provide an index, number pages consecutively with the comments, and submit an unbound original and three copies.

Instructions: Direct your comments to Docket ID No. EPA-HQ-ORD-2006-0975. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: December 20, 2006.
George Alapas,
Deputy Director, National Center for Environmental Assessment.

[FR Doc. E6-22427 Filed 12-28-06; 8:45 am]

BILLING CODE 6560-50-P